PENSION BENEFIT GUARANTY CORPORATION

Submission of Information Collection for OMB Review; Comment Request; Qualified Domestic Relations Orders Submitted to the PBGC

AGENCY: Pension Benefit Guaranty Corporation.

ACTION: Notice of request for extension of OMB approval.

SUMMARY: The Pension Benefit Guaranty Corporation (“PBGC”) is requesting that the Office of Management and Budget (“OMB”) approve a revision of a collection of information under the Paperwork Reduction Act. The information collection relates to qualified domestic relations orders submitted to the PBGC. This notice informs the public of the PBGC's request and solicits public comment on the collection of information.

DATES: Comments should be submitted by July 12, 2006.

ADDRESSES: Comments may be mailed to the Office of Information and Regulatory Affairs of the Office of Management and Budget, Attn: Desk Officer for Pension Benefit Guaranty Corporation, Washington, DC 20503. Copies of the request for extension (including the collection of information) may be obtained without charge by writing to the Disclosure Division of the Office of the General Counsel of PBGC at 1200 K Street, NW., 11th Floor, Washington, DC 20005-4026, or by visiting or calling (202-326-4040) the Disclosure Division during normal business hours. (TTY and TDD users may call the Federal relay service toll-free at 1-800-877-8339 and ask to be connected to 202-326-4040.)

FOR FURTHER INFORMATION CONTACT: Jo Amato Burns, Attorney, Legislative and Regulatory Department, Pension Benefit Guaranty Corporation, 1200 K Street, NW., Washington, DC 20005-4026, 202-326-4024. (TTY and TDD users may call the Federal relay service toll-free at 1-800-877-8339 and ask to be connected to 202-326-4024.)

SUPPLEMENTARY INFORMATION: The PBGC is requesting that OMB extend its approval (with modifications) of the guidance and model language and forms contained in the PBGC booklet, Divorce Orders & PBGC.

A defined benefit pension plan that does not have enough money to pay benefits may be terminated if the employer responsible for the plan faces severe financial difficulty, such as bankruptcy, and is unable to maintain the plan. In such an event, the PBGC becomes trustee of the plan and pays benefits, subject to legal limits, to plan participants and beneficiaries.

The benefits of a pension plan participant generally may not be assigned or alienated. However, Title I of ERISA provides an exception for domestic relations orders that relate to child support, alimony payments, or the marital property rights of an alternate payee (a spouse, former spouse, child, or other dependent of a plan participant). The exception applies only if the domestic relations order meets specific legal requirements that make it qualified, i.e., a qualified domestic relations order, or “QDRO.” ERISA provides that pension plans are required to comply with only those domestic relations orders which are QDROs, and that the decision as to whether a domestic relations order is a QDRO is made by the plan administrator. Thus, as statutory trustee of terminated plans, PBGC must first determine whether any domestic relations order submitted to PBGC is qualified—i.e., is a QDRO—before any obligation to comply is triggered.

When PBGC is trustee of a plan, it reviews submitted domestic relations orders to determine whether the order is qualified before paying benefits to an alternate payee. The requirements for submitting a QDRO are established by statute. The models and guidance provided in the PBGC booklet, Divorce Orders & PBGC (the booklet's title will be changed to Qualified Domestic Relations Orders & PBGC, to better reflect its scope), assists parties by making it easier to comply with ERISA's QDRO requirements when drafting orders for plans trusteed by PBGC. The booklet does not create any additional requirements.

The PBGC is revising the QDRO booklet by: Defining a participant's “earliest PBGC retirement date,” which affects when a participant and alternate payee may start receiving benefit payments; describing new annuity benefit forms that are available to alternate payees; providing information on how to make a Freedom of Information Act (FOIA) request to obtain information necessary for the preparation of a domestic relations order; and providing additional model forms and language to address a greater variety of situations. The revised booklet will be available on the PBGC's Web site at http://www.pbgc.gov.

The collection of information has been approved through December 31, 2006, by OMB under control number 1212-0054. The PBGC is requesting that OMB approve the revised collection of information for three years. An agency may not conduct or sponsor, and a person is not required to respond to, a collection of information unless it displays a currently valid OMB control number.

PBGC estimates that it will receive an average of 875 domestic relations orders annually, and estimates 855 of these will be prepared by attorneys or other professionals. The average hour burden for the alternate payee or participant is .75 hours if the order is prepared by a professional. In the case where the alternate payee or participant prepares the order, the average hour burden is estimated to be 10 hours. The total annual hour burden for alternate payees and participants is thus 841.25 hours ((855 × .75 hour = 641.25) + (20 × 10 = 200) = 841.25 hours). If the alternate payee or participant hires an attorney, PBGC estimates costs of $450 to $880 in professional fees for each order. PBGC estimates the total annual burden will be 841.25 hours of the alternate payee's or participant's time, and professional costs of $384,750 to $752,400.

Issued in Washington, DC, this 6th day of June, 2006.
Cris Birch,
Acting Chief Technology Officer, Pension Benefit Guaranty Corporation.

[FR Doc. E6-9065 Filed 6-9-06; 8:45 am]

BILLING CODE 7708-01-P